DEPARTMENT OF COMMERCE

International Trade Administration

[C-533-839]

Carbazole Violet Pigment 23 From India: Rescission of Countervailing Duty Administrative Review; 2015

AGENCY: Enforcement and Compliance, International Trade Administration, Department of Commerce.

SUMMARY: The Department of Commerce (the Department) is rescinding the administrative review of the countervailing duty (CVD) order on carbazole violet pigment 23 (CVP-23) from India covering the period January 1, 2015, through December 31, 2015, based on the timely withdrawal of the request for review.

DATES: Applicable September 11, 2017.

FOR FURTHER INFORMATION CONTACT: Gene H. Calvert, AD/CVD Operations, Office VII, Enforcement and Compliance, International Trade Administration, U.S. Department of Commerce, 1401 Constitution Avenue NW., Washington, DC 20230; telephone: (202) 482-3586.

SUPPLEMENTARY INFORMATION:

Background

On December 1, 2016, the Department published in the Federal Register a notice of opportunity to request an administrative review of the CVD order on CVP-23 from India for the period January 1, 2015, through December 31, 2015.¹ On December 7, 2016, the Department received a timely request for review from Pidilite Industries Limited (Pidilite), in accordance with section 751(a) of the Tariff Act of 1930, as amended (the Act), and 19 CFR 351.213(b), to conduct an administrative review of this CVD order.² Based upon this request, on February 13, 2017, the Department published in the Federal Register a notice of initiation of an administrative review of the CVD order on CVP-23 from India with respect to Pidilite.³ No other party requested an administrative review. On March 28, 2017, Pidilite timely withdrew its request for an administrative review.⁴

¹ See Antidumping or Countervailing Duty Order, Finding, or Suspended Investigation; Opportunity To Request Administrative Review, 81 FR 86694 (December 1, 2016).

² See Letter from Pidilite, regarding “Carbazole Violet Pigment 23 from India; Request for Administrative Review,” dated December 7, 2016.

³ See Initiation of Antidumping and Countervailing Duty Administrative Reviews, 82 FR 10457 (February 13, 2017).

⁴ See Letter from Pidilite, regarding “Carbazole Violet Pigment 23 from India: Withdrawal of Administrative Review Request,” dated March 28, 2017.

Rescission of Administrative Review

Pursuant to 19 CFR 351.213(d)(1), the Secretary will rescind an administrative review, in whole or in part, if the party that requested the review withdraws its request within 90 days of the publication of the notice of initiation of the requested review. In this case, Pidilite timely withdrew its request for review within the 90-day deadline, and no other party requested an administrative review of this order. Therefore, we are rescinding the administrative review of the CVD order on CVP-23 from India covering the period January 1, 2015, through December 31, 2015.

Assessment

The Department will instruct U.S. Customs and Border Protection (CBP) to assess countervailing duties on all appropriate entries at a rate equal to the cash deposit of estimated countervailing duties required at the time of entry, or withdrawal from, for consumption, during the period January 1, 2015, through December 31, 2015, in accordance with 19 CFR 351.212(c)(1)(i). The Department intends to issue appropriate assessment instructions to CBP 15 days after the publication of this notice in the Federal Register.

Notification Regarding Administrative Protection Order

This notice serves as a reminder to parties subject to administrative protective order (APO) of their responsibility concerning the return or destruction of proprietary information disclosed under APO, in accordance with 19 CFR 351.305(a)(3). Timely written notification of the return or destruction of APO materials or the conversion to judicial protective order is hereby requested. Failure to comply with the regulations and the terms of an APO is a sanctionable violation.

This notice is published in accordance with section 751 of the Act and 19 CFR 351.213(d)(4).

Dated: September 1, 2017.
Gary Taverman,
Deputy Assistant Secretary for Antidumping and Countervailing Duty Operations, performing the non-exclusive functions and duties of the Assistant Secretary for Enforcement and Compliance.

[FR Doc. 2017-19169 Filed 9-8-17; 8:45 am]

BILLING CODE 3510-DS-P